DEPARTMENT OF AGRICULTURE

Agricultural Marketing Service

7 CFR Part 930

[Docket No. AMS-FV-13-0097; FV14-930-1]

Tart Cherries Grown in the States of Michigan, New York, Pennsylvania, Oregon, Utah, Washington and Wisconsin; Continuance Referendum

AGENCY: Agricultural Marketing Service, USDA.

ACTION: Referendum order.

SUMMARY: This document directs that a referendum be conducted among eligible growers and processors of tart cherries grown in the States of Michigan, New York, Pennsylvania, Oregon, Utah, Washington and Wisconsin to determine whether they favor continuance of the marketing order that regulates the handling of tart cherries produced in the production area.

DATES: The referendum will be conducted from March 10 through March 28, 2014. To vote in this referendum, growers and processors must have produced or processed tart cherries within the designated production area during the period of July 1, 2011, through June 30, 2012.

ADDRESSES: Copies of the marketing order may be obtained from the referendum agents at 799 Overlook Drive, Winter Haven, FL 33884, or the Office of the Docket Clerk, Marketing Order and Agreement Division, Fruit and Vegetable Program, AMS, USDA, 1400 Independence Avenue SW., STOP 0237, Washington, DC 20250-0237; Fax: (202) 720-8938; or internet: http://www.regulations.gov.

FOR FURTHER INFORMATION CONTACT: Jennie M. Varela, Marketing Specialist, or Christian D. Nissen, Regional Director, Southeast Marketing Field Office, Marketing Order and Agreement Division, Fruit and Vegetable Program, AMS, USDA, 799 Overlook Drive, Winter Haven, FL 33884; Telephone: (863) 324-3375, Fax: (863) 325-8793, or Email: Jennie.Varela@ams.usda.gov or Christian.Nissen@ams.usda.gov.

SUPPLEMENTARY INFORMATION: Pursuant to Marketing Agreement and Order No. 930, as amended (7 CFR Part 930), hereinafter referred to as the “order,” and the applicable provisions of the Agricultural Marketing Agreement Act of 1937, as amended (7 U.S.C. 601-674), hereinafter referred to as the “Act,” it is hereby directed that a referendum be conducted to ascertain whether continuance of the order is favored by growers and processors. The referendum shall be conducted from March 10 through March 28, 2014, among tart cherry growers and processors in the production area. Only tart cherry growers and processors currently engaged in the production or processing of tart cherries that produced or processed tart cherries during the period of July 1, 2011, through June 30, 2012, may participate in the continuance referendum.

USDA has determined that continuance referenda are an effective means for determining whether producers favor the continuation of marketing order programs. The order would continue in effect if at least 50 percent of the growers and processors voting, by number or volume, vote in favor of continuance. In evaluating the merits of continuance versus termination, USDA will consider the results of the continuance referendum. USDA will also consider all other relevant information concerning the operation of the order and the relative benefits and disadvantages to growers, processors, and consumers in determining whether continued operation of the order would tend to effectuate the declared policy of the Act.

In accordance with the Paperwork Reduction Act of 1995 (44 U.S.C. 3501-3520), the ballot materials to be used in the referendum have been submitted to and approved by the Office of Management and Budget (OMB) and have been assigned OMB No. 0581-0177 (Tart Cherries Grown in the States of Michigan, New York, Pennsylvania, Oregon, Utah, Washington, and Wisconsin). It has been estimated that it will take an average of 20 minutes for each of the approximately 600 growers and 40 processors of tart cherries to cast a ballot. Participation is voluntary. Ballots postmarked after March 28, 2014, will not be included in the vote tabulation.

Jennie M. Varela and Christian D. Nissen of the Southeast Marketing Field Office, Fruit and Vegetable Program, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR 900.400-900.407).

Ballots will be mailed to all growers and processors of record and may also be obtained from the referendum agents, or from their appointees.

List of Subjects in 7 CFR Part 930

Marketing agreements, Reporting and recordkeeping requirements, Tart cherries.

Authority: 7 U.S.C. 601-674.

Dated: February 18, 2014.
Rex A. Barnes,
Associate Administrator, Agricultural Marketing Service.

[FR Doc. 2014-03908 Filed 2-24-14; 8:45 am]

BILLING CODE 3410-02-P